DEPARTMENT OF ENERGY

Federal Energy Regulatory Commission

[Docket No. PR00-17-000]

Transok, LLC; Notice of Petition for Rate Approval

June 21, 2000.

Take notice that on June 15, 2000, Transok, LLC (“Transok”) filed a petition for rate approval to establish rates for interruptible Section 311 transportation services on Transok's Palo Duro System. Transok asks that the rates become effective July 1, 2000.

Pursuant to Section 284.123(b)(2)(ii) of the Commission's regulations, if the Commission does not act within 150 days of the filing date, the rates will be deemed to be fair and equitable and not in excess of an amount which interstate pipelines would be permitted to charge for similar transportation service. The Commission may, prior to the expiration of the 150 day period, extend the time for action or institute a proceeding to afford parties an opportunity for written comments and for the oral presentations of views, data and arguments.

Any person desiring to participate in this rate proceeding must file a motion to intervene or protest with the Federal Energy Regulatory Commission, 888 First Street, NE., Washington, DC 20426, in accordance with rules 211 and 214 of the Commission's Rules of practice and procedure (18 CFR 385.211 and 385.214). All motions must be filed with the Secretary of the Commission on or before July 5, 2000. This petition for rate approval is on file with the Commission and is available for public inspection. This filing may be viewed on the web at http://www.ferc.fed.us/online/rims.htm (call 202-208-2222 for assistance).

David P. Boergers,
Secretary.

[FR Doc. 00-16140 Filed 6-26-00; 8:45 am]

BILLING CODE 6717-01-M